DEPARTMENT OF THE INTERIOR

National Park Service

[NPS-WASO-DPOL-16474; PPWODIREP0; PPMPSPD1Y.YM0000]

Notice of October 23-24, 2014, Meeting of the National Park System Advisory Board

AGENCY: National Park Service, Interior.

ACTION: Meeting notice.

SUMMARY: Notice is hereby given in accordance with the Federal Advisory Committee Act, 5 U.S.C. Appendix 1-16, and Parts 62 and 65 of title 36 of the Code of Federal Regulations that the National Park System Advisory Board will meet October 23-24, 2014, in Grand Canyon, Arizona. The agenda will include the review of proposed actions regarding the National Historic Landmarks (NHL) Program and the National Natural Landmarks (NNL) Program. Interested parties are encouraged to submit written comments and recommendations that will be presented to the Board. Interested parties also may attend the board meeting and upon request may address the Board concerning an area's national significance.

DATES: (a) Written comments regarding any proposed National Historic Landmarks matter or National Natural Landmarks matter listed in this notice will be accepted by the National Park Service until October 21, 2014. (b) The Board will meet on October 23-24, 2014.

ADDRESSES: The meeting will be held in Grand Canyon National Park at the Horace M. Albright Training Center, 1 Albright Avenue, Grand Canyon, Arizona 86023, telephone (928) 638-7981.

Agenda: On the morning of October 23, the Board will convene its business meeting at 8:15 a.m., Mountain Time, and adjourn for the day at 11:50 a.m. The Board will tour Grand Canyon National Park in the afternoon. On October 24, the Board will reconvene at 9:00 a.m., and adjourn at 3:30 p.m. During the course of the two days, the Board may be addressed by National Park Service Director Jonathan Jarvis and briefed by other National Park Service officials regarding education, leadership development, philanthropy, NPS urban initiatives, and science; deliberate and make recommendations concerning National Historic Landmarks Program proposals, and National Natural Landmarks Program proposals; and receive status briefings on matters pending before committees of the Board.

FOR FURTHER INFORMATION CONTACT: (a) For information concerning the National Park System Advisory Board or to request to address the Board, contact Shirley Sears, National Park Service, MC 0004-Policy, 1849 C Street NW., Washington, DC 20240, telephone (202) 354-3955, email Shirley_Sears@nps.gov. (b) To submit a written statement specific to, or request information about, any National Historic Landmarks matter listed below, or for information about the National Historic Landmarks Program or National Historic Landmarks designation process and the effects of designation, contact J. Paul Loether, Chief, National Register of Historic Places and National Historic Landmarks Program, National Park Service, 1849 C Street NW., MC 2280, Washington, DC 20240, email Paul_Loether@nps.gov. (c) To submit a written statement specific to, or request information about, any National Natural Landmarks Program or National Natural Landmarks designation process and the effects of designation, contact Heather Eggleston, Acting Program Manager, National Natural Landmarks Program, National Park Service, 12795 W Alameda Parkway, Lakewood, Colorado 80228, email Heather_Eggleston@nps.gov.

SUPPLEMENTARY INFORMATION: Matters concerning the National Historic Landmarks Program and National Natural Landmarks Program will be considered by the Board at the morning session of the business meeting on October 23 during which the Board may consider the following:

A. National Historic Landmarks (NHL) Program

NHL Program matters will be considered at the morning session of the business meeting on October 23, during which the Board may consider the following:

Nominations for NHL Designation

California

• California Powder Works Bridge, Santa Cruz County, CA

Florida

• Marjory Stoneman Douglas House, Miami, FL

Indiana

• Samara (John E. and Catherine E. Christian House), West Lafayette, IN

Massachusetts

• Brookline Reservoir of the Cochituate Aqueduct, Brookline, MA

Michigan

• McGregor Memorial Conference Center, Detroit, MI

Wyoming

• Lake Hotel, Yellowstone National Park, Teton County, WY

Proposed Amendments to Existing NHL Designations

Arkansas

• Fort Smith, Fort Smith, AR

(Updated documentation and boundary change)

Montana and North Dakota

• Fort Union, McKenzie and Williams Counties, ND, and Richland and Roosevelt Counties, MT

(Updated documentation and boundary change)

Pennsylvania

• Cliveden, Philadelphia, PA

(Updated documentation)

Utah

• Mountain Meadows Massacre Site, Washington County, UT

(Updated documentation and boundary change)

Proposed Withdrawal of NHL Designation

California

• WAPAMA (Steam Schooner), San Francisco, CA

B. National Natural Landmarks (NNL) Program

NNL Program matters will be considered at the morning session of the business meeting on October 23, during which the Board may consider the following:

Nomination for NNL Designation

Oregon

• Mount Howard-East Peak, Wallowa County, OR

Proposed Amendment to Existing NNL Designation

California

• Cosumnes River Riparian Woodlands, Sacramento County, CA

(Proposed Boundary Revision)

The board meeting will be open to the public. The order of the agenda may be changed, if necessary, to accommodate travel schedules or for other reasons. Space and facilities to accommodate the public are limited and attendees will be accommodated on a first-come basis. Anyone may file with the Board a written statement concerning matters to be discussed. The Board also will permit attendees to address the Board, but may restrict the length of the presentations, as necessary to allow the Board to complete its agenda within the allotted time. Before including your address, telephone number, email address, or other personal identifying information in your comment, you should be aware that your entire comment—including your personal identifying information—may be made publicly available at any time. While you may ask us in your comment to withhold your personal identifying information from public review, we cannot guarantee that we will be able to do so.

Draft minutes of the meeting will be available for public inspection about 12 weeks after the meeting in the 12th floor conference room at 1201 I Street NW., Washington, DC.

Dated: August 18, 2014.
Shirley Sears,
Acting Chief, Office of Policy.

[FR Doc. 2014-19975 Filed 8-21-14; 8:45 am]

BILLING CODE 4310-EE-P